DEPARTMENT OF TRANSPORTATION

Federal Transit Administration

Pilot Program for Transit-Oriented Development Planning Project Selections

AGENCY: Federal Transit Administration, DOT.

ACTION: Pilot Program for Transit-Oriented Development Planning Announcement of Project Selections.

SUMMARY: The U.S. Department of Transportation's Federal Transit Administration (FTA) announces the selection of projects with Fiscal Year (FY) 2015 and FY 2016 appropriations for the Pilot Program for Transit-Oriented Development Planning (TOD Pilot Program), as authorized by the Moving Ahead for Progress in the 21st Century Act (MAP-21) with additional funding provided by the Fixing America's Surface Transportation (FAST) Act. On April 14, 2016, FTA published a Notice of Funding Opportunity (NOFO) (81 FR 22155) announcing the availability of $20.49 million in funding for this program. This program supports comprehensive planning efforts associated with new fixed guideway and core capacity improvement projects that are seeking or have recently received funding through FTA's Fixed Guideway Capital Investment Grants (CIG) Program.

FOR FURTHER INFORMATION CONTACT: Successful applicants should contact the appropriate FTA Regional Office for information regarding applying for the funds. For program-specific information, applicants may contact Benjamin Owen, FTA Office of Planning and Environment, at (202) 366-5602 or benjamin.owen@dot.gov. A list of Regional Offices can be found at www.transit.dot.gov. A TDD is available at 1-800-877-8339 (TDD/FIRS).

SUPPLEMENTARY INFORMATION: In response to the NOFO, FTA received 20 proposals from 17 states requesting $17.6 million in Federal funds. Project proposals were evaluated based on each applicant's responsiveness to the program evaluation criteria as detailed in the NOFO. Two of the 20 projects were deemed ineligible to receive funds because they did not meet the eligibility requirements described in the NOFO. A further two were associated with transit projects for which the risk of major scope changes could render the proposed comprehensive planning efforts moot. Those projects would be eligible to reapply to a future TOD Pilot Program funding opportunity if and when the uncertainties are resolved. FTA has selected 16 projects as shown in Table I for a total of $14.7 million.

Recipients selected for competitive funding should work with their FTA Regional Office to finalize the grant application in FTA's Transit Award Management System (TrAMS) for the projects identified in the attached table to quickly obligate funds. Grant applications must include eligible activities applied for in the original project application. Funds must be used consistent with the submitted proposal and for the eligible planning purposes established in the NOFO. Recipients are reminded that program requirements such as local match can be found in the NOFO. A discretionary project identification number has been assigned to each project for tracking purposes and must be used in the TrAMS application.

Selected projects are eligible to incur costs under pre-award authority no earlier than the date projects were publicly announced, October 11, 2016. Pre-award authority does not guarantee that project expenses incurred prior to the award of a grant will be eligible for reimbursement, as eligibility for reimbursement is contingent upon all applicable requirements having been met. For more about FTA's policy on pre-award authority, please see the FTA Fiscal Year 2016 Apportionments, Allocations, and Program Information and Interim Guidance found in 81 FR 7893 (February 16, 2016). Post-award reporting requirements include submission of the Federal Financial Report and Milestone progress reports in TrAMS as appropriate (see Grant Management Requirements FTA.C.5010.1D and Program Guidance for Metropolitan Planning and State Planning and Research Program Grants C.8100.1C). Recipients must comply with all applicable Federal statutes, regulations, executive orders, FTA circulars, and other Federal requirements in carrying out the project supported by the FTA grant. FTA emphasizes that grantees must follow all third-party procurement guidance, as described in FTA.C.4220.1F. Funds allocated in this announcement must be obligated in a grant by September 30, 2017.

Carolyn Flowers,
Acting Administrator.

Table I—FY 2017 Pilot Program for Transit-Oriented Development Planning Project Selections
State | Recipient | Project ID | Project description | Allocation ($)
AZ | City of Phoenix | D2017-TODP-001 | South Central Light Rail TOD Planning Grant | 2,000,000
CA | Santa Clara Valley Transportation Authority (VTA) | D2017-TODP-002 | VTA BART Phase II—TOD and Station Access Planning Study | 1,520,000
CA | Los Angeles County Metropolitan Transportation Authority | D2017-TODP-003 | West Santa Ana Branch Transit Corridor TOD Strategic Implementation Plan | 2,000,000
CO | Regional Transportation District | D2017-TODP-004 | Colfax Corridor Connections TOD Implementation Plan (C3 TOD Plan) | 1,350,000
FL | Miami-Dade County | D2017-TODP-005 | Master TOD Plan for the Miami-Dade County East-West Corridor | 960,000
ID | Valley Regional Transit | D2017-TODP-006 | State Street Corridor Transit Oriented Development (TOD) Design and Implementation Plan | 279,000
MI | City of Detroit Department of Transportation | D2017-TODP-007 | City of Detroit Feasibility Study for Major Transit Capital Investment—East Jefferson Avenue | 300,000
MO | Bi-State Development Agency | D2017-TODP-008 | Northside-Southside Pilot Program for Transit-Oriented Development Planning | 374,278
MN | Metropolitan Council/Metro Transit | D2017-TODP-009 | METRO Blue Line Extension—Advanced Transit-Oriented Development Planning (BLRT TOD) | 1,200,000
NM | Rio Metro Regional Transit District | D2017-TODP-010, D2017-TODP-011 | New Mexico's Knowledge Corridor: BRT, Land Use and Economic Opportunity on University Boulevard | 572,000
OR | Lane Transit District | D2017-TODP-012 | River Road Transit Community Implementation Plan | 450,000
OR | Metro | D2017-TODP-013 | Southwest Corridor Equitable Development Strategy (SWEDS) | 895,000
TX | North Central Texas Council of Governments | D2017-TODP-014 | DART Red and Blue Line Corridors TOD Planning Study | 1,400,000
UT | Utah Transit Authority | D2017-TODP-015 | Ogden/WSU BRT—Transit Oriented Development (TOD) Analysis and Implementation Plan | 250,000
VA | County of Fairfax, Virginia | D2017-TODP-016 | Transit-Oriented Development Planning for the Richmond Highway Corridor | 400,000
WI | City of Milwaukee | D2017-TODP-017 | Milwaukee Streetcar King Drive and Walker's Point Extensions—Equitable Growth through TOD | 750,000

[FR Doc. 2016-26208 Filed 10-28-16; 8:45 am]

BILLING CODE P